NUCLEAR REGULATORY COMMISSION

[Docket No. 11005472; NRC-2024-0195]

Westinghouse Electric Company, LLC; Export License Application

AGENCY: Nuclear Regulatory Commission.

ACTION: Opportunity to provide comments, request a hearing, and petition for leave to intervene.

SUMMARY: The U.S. Nuclear Regulatory Commission (NRC) received and is considering issuing an export license (XR169/02), requested by Westinghouse Electric Company, LLC (WEC) by application dated June 11, 2015. The application seeks the NRC's approval to: export nuclear equipment and components to China, covered under NRC regulations; expand the description of the nuclear equipment and components; add two additional units at both the Sanmen and Haiyang sites for a total of four units at each site; change the name of one of the “Suppliers and/or Other Parties to the Export”; update the licensee's address; change the licensee point of contact; and extend the license date of expiration from July 23, 2015, to July 23, 2035. The NRC is providing notice of the opportunity to comment, request a hearing, and petition to intervene on WEC's application.

DATES: Submit comments by December 26, 2024. A request for a hearing or petition for leave to intervene must be filed by December 26, 2024.

ADDRESSES: You may submit comments by any of the following methods; however, the NRC encourages electronic comment submission through the Federal rulemaking website:

• Federal rulemaking website: Go to https://www.regulations.gov and search for Docket ID NRC-2024-0195. Address questions about Docket IDs in Regulations.gov to Stacy Schumann; telephone: 301-415-0624; email: Stacy.Schumann@nrc.gov. For technical questions contact the individual listed in the For Further Information Contact section of this document.

• Email comments to: Hearing.Docket@nrc.gov. If you do not receive an automatic email reply confirming receipt, then contact us at 301-415-1677.

• Fax comments to: Secretary, U.S. Nuclear Regulatory Commission at 301-415-1101.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Andrea Jones, Office of International Programs, U.S. Nuclear Regulatory Commission, Washington, DC 20555-0001; telephone: 404-997-4443; email: Andrea.Jones2@nrc.gov.

SUPPLEMENTARY INFORMATION:

I. Obtaining Information and Submitting Comments

A. Obtaining Information

Please refer to NRC-2024-0195 or Docket No. 11005472 when contacting the NRC about the availability of information for this action. You may obtain publicly available information related to this action by the following methods:

• Federal Rulemaking Website: Go to https://www.regulations.gov and search for Docket ID NRC-2024-0195.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The export license application is available in ADAMS under Accession No. ML15164A003.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include NRC-2024-0195 or Docket No. 11005472 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On June 11, 2015, WEC submitted an application to renew and amend export license XR169/01 to: (1) export nuclear equipment and components covered under part 110 of title 10 of the Code of Federal Regulations (10 CFR), appendix A, to be used at the Sanmen Nuclear Power Plant (NPP) Units 1-4 and Haiyang NPP Units 1-4, located in the People's Republic of China, for a total of four units at each site (the application expanded the scope of the export to include Units 3 and 4 at each site, whereas previously only Units 1 and 2 were included); (2) update the language on the requested license to include paragraphs (10)-(11) of appendix A to 10 CFR part 110; (3) delete Stone & Webster Asia, Inc. from “Other Parties to Export” and replace it with its new legal name, CB&I Stone & Webster Asia, Inc.; (4) update the licensee's address; (5) change the licensee point of contact; and (6) extend the license date of expiration from July 23, 2015 to July 23, 2035.

In accordance with 10 CFR 110.70(b), the NRC is providing notice of the receipt of the application; providing the opportunity to submit written comments concerning the application; and providing the opportunity to request a hearing or petition for leave to intervene, for a period of 30 days after publication of this notice in the Federal Register. A hearing request or petition for leave to intervene must include the information specified in 10 CFR 110.82(b). Any request for hearing or petition for leave to intervene shall be served by the requestor or petitioner in accordance with 10 CFR 110.89(a), either by delivery, by mail, or filed with the NRC electronically in accordance with the NRC's E-Filing rule (72 FR 49139; August 28, 2007, as amended at 77 FR 46562; August 3, 2012). Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC issued digital ID certificate). Based upon this information, the Secretary will establish an electronic docket for the hearing in this proceeding if the Secretary has not already established an electronic docket.

The information concerning this application for an export license is as follows.

NRC Export License Application
Application Information
Name of Applicant | Westinghouse Electric Company.
Date of Application | June 11, 2015.
Date Received | August 25, 2015.
Application No | XR169/02.
Docket No | 11005472.
ADAMS Accession No | ML15164A003.
Description of Material
Material Type | Application to renew and amend export license XR169/01 to: (1) export to China, nuclear equipment and components covered under appendix A of 10 CFR part 110, to be used at the Sanmen NPP Units 1-4 and Haiyang NPP Units 1-4, located in the People's Republic of China, for a total of four units at each site (eight total); (2) change the name of one of the “Suppliers and/or Other Parties to the Export”; (3) update the requested amendment license to include paragraphs (10) and (11) of appendix A of 10 CFR part 110; (4) update the licensee's address; (5) change the licensee point of contact; and (6) extend the license date of expiration from July 23, 2015 to July 23, 2035.
Total Quantity | All nuclear equipment and components are covered under appendix A of 10 CFR part 110, paragraphs (1)-(11).
End Use | Electricity generation.
Country of Destination | People's Republic of China.

Dated: November 21, 2024.
For the Nuclear Regulatory Commission.
David Skeen,
Director, Office of International Programs.

[FR Doc. 2024-27665 Filed 11-25-24; 8:45 am]

BILLING CODE 7590-01-P